DEPARTMENT OF TRANSPORTATION

Federal Aviation Administration

14 CFR Part 71

[Docket No. FAA-2015-1136; Airspace Docket No. 15-ANM-12]

Amendment of Class D and Class E Airspace, Revocation of Class E Airspace; Mountain Home, ID

AGENCY: Federal Aviation Administration (FAA), DOT.

ACTION: Final rule.

SUMMARY: This action modifies Class D airspace, Class E surface area airspace, Class E airspace extending upward from 700 feet above the surface, and removes Class E surface area airspace designated as an extension at Mountain Home AFB, Mountain Home, ID. The FAA found it necessary to amend the airspace area by increasing the Class D airspace and reducing the Class E airspace extending upward from 700 feet above the surface for the safety and management of Instrument Flight Rules (IFR) operations for arriving and departing aircraft at the airport and to change from navigation aids to geographic coordinate references in the legal description. This action updates the geographic coordinates of Mountain Home Municipal Airport, Mountain Home, ID.

DATES: Effective 0901 UTC, December 10, 2015. The Director of the Federal Register approves this incorporation by reference action under title 1, Code of Federal Regulations, part 51, subject to the annual revision of FAA Order 7400.9 and publication of conforming amendments.

ADDRESSES: FAA Order 7400.9Z, Airspace Designations and Reporting Points, and subsequent amendments can be viewed online at http://www.faa.gov/air_traffic/publications/. For further information, you can contact the Airspace Policy and ATC Regulations Group, Federal Aviation Administration, 800 Independence Avenue SW., Washington, DC, 29591; telephone: 202-267-8783. The Order is also available for inspection at the National Archives and Records Administration (NARA). For information on the availability of this material at NARA, call 202-741-6030, or go to http://www.archives.gov/federal_register/code_of_federal-regulations/ibr_locations.html.

FAA Order 7400.9, Airspace Designations and Reporting Points, is published yearly and effective on September 15.

FOR FURTHER INFORMATION CONTACT: Steve Haga, Federal Aviation Administration, Operations Support Group, Western Service Center, 1601 Lind Avenue SW., Renton, WA, 98057; telephone (425) 203-4500.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes controlled airspace at Mountain Home AFB, ID.

History

On July 28, 2015, the FAA published in the Federal Register a notice of proposed rulemaking (NPRM) to modify Class D airspace, Class E surface area airspace, Class E airspace extending upward from 700 feet above the surface, and remove Class E surface area airspace designated as an extension at Mountain Home AFB, Mountain Home, ID, (80 FR 44896). Interested parties were invited to participate in this rulemaking effort by submitting written comments on the proposal to the FAA. One comment was received from Mr. Ted Thompson expressing concern about the reduction of Class E airspace to the west of Mountain Home Municipal airport if an instrument approach is established from the west. In accordance with FAA Joint Order 7400.2K, airspace is established based upon existing procedures. Any changes to airspace that would be required by the development of a new instrument procedure would be addressed at that time. Subsequent to publication, the FAA found slight changes were necessary in the geographic coordinates noted in the legal description of the Class E airspace extending upward from 1,200 feet above surface.

Class D and Class E airspace designations are published in paragraph 5000, 6002, 6004, and 6005, respectively, of FAA Order 7400.9Z, dated August 6, 2015, and effective September 15, 2015, which is incorporated by reference in 14 CFR part 71.1. The Class E airspace designation listed in this document will be published subsequently in the Order.

Availability and Summary of Documents for Incorporation by Reference

This document amends FAA Order 7400.9Z, airspace Designations and Reporting Points, dated August 6, 2015, and effective September 15, 2015. FAA Order 7400.9Z is publicly available as listed in the ADDRESSES section of this document. FAA Order 7400.9Z lists Class A, B, C, D, and E airspace areas, air traffic service routes, and reporting points.

The Rule

This amendment to Title 14, Code of Federal Regulations (14 CFR) part 71 modifies Class D airspace, Class E surface area airspace, Class E airspace extending upward from 700 feet above the surface, and removes Class E surface area airspace as an extension at Mountain Home AFB, Mountain Home, ID. After a review, the FAA found an increase of the Class D airspace necessary to protect instrument arrival procedures at the airport. Class D airspace is extended upward from the surface to and including 5,500 feet within a 5-mile radius of Mountain Home AFB, extending to 6.5 miles to the southeast and northwest of the airport. Class E surface area airspace extends upward from the surface within a 5-mile radius of Mountain Home AFB, extending to 6.5 miles to the southeast and northwest of the airport. Class E airspace extending upward from 700 feet above the surface is modified to within a 7.7-mile radius northeast of Mountain Home AFB, extending to 12.4 miles to the northeast, and 17.7 miles to the east. The lateral boundary for that Class E airspace extending from 1,200 feet above the surface is defined utilizing latitude and longitude reference points instead of Federal airway reference, and does not change the lateral boundaries or operating requirements of the 1,200 foot airspace. This action also updates the geographic coordinates of Mountain Home Municipal Airport, Mountain Home, ID.

Regulatory Notices and Analyses

The FAA has determined that this regulation only involves an established body of technical regulations for which frequent and routine amendments are necessary to keep them operationally current, is non-controversial and unlikely to result in adverse or negative comments. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.9Z, Airspace Designations and Reporting Points, dated August 6, 2015, and effective September 15, 2015, is amended as follows:

Paragraph 5000 Class D airspace

* * * * *

ANM ID D Mountain Home, ID [Modified]

Mountain Home AFB, ID

(Lat. 43°02′37″ N., long. 115°52′21″ W.)

That airspace extending upward from the surface to and including 5,500 feet MSL within a 5-mile radius of the Mountain Home AFB and within 2 miles each side of the 135° bearing from the airport extending from the 5-mile radius to 6.5 miles southeast of the airport, and within 2 miles each side of the 315° bearing from the airport extending from the 5-mile radius to 6.5 miles northwest of the airport. This Class D airspace area is effective during the specific dates and times established in advance by a Notice to Airmen. The effective date and time will thereafter be continuously published in the Airport/Facility Directory.

Paragraph 6002 Class E Airspace Designated as Surface Areas

* * * * *

ANM ID E2 Mountain Home, ID [Modified]

Mountain Home AFB, ID

(Lat. 43°02′37″ N., long. 115°52′21″ W.)

That airspace extending upward from the surface within a 5-mile radius of the Mountain Home AFB, and within 2 miles each side of the 135° bearing from the airport extending from the 5-mile radius to 6.5 miles southeast of the airport, and within 2 miles each side of the 315° bearing from the airport extending from the 5-mile radius to 6.5 miles northwest of the airport.

Paragraph 6004 Class E Airspace Areas Designated as an Extension to a Class D or Class E Surface Area.

* * * * *

ANM ID E4 Mountain Home, ID [Removed]

Paragraph 6005 Class E Airspace areas extending upward from 700 feet or more above the surface of the earth

* * * * *

ANM ID E5 Mountain Home, ID [Modified]

Mountain Home AFB, ID

(Lat. 43°02′37″ N., long. 115°52′21″ W.)

Mountain Home Municipal Airport

(Lat. 43°07′54″ N., long. 115°43′50″ W.)

That airspace extending upward from 700 feet above the surface bounded by a line beginning at lat. 43°06′48″ N., long. 115°28′39″ W.; to lat. 43°02′06″ N., long. 115°31′12″ W.; to lat. 43°03′25″ N., long. 115°36′21″ W.; to lat. 42°54′24″ N., long. 115°48′41″ W.; to lat. 42°54′24″ N., long. 115°56′47″ W.; to lat. 43°00′12″ N., long. 116°04′42″ W.; to lat. 43°06′51″ N., long. 116°01′24″ W.; to lat. 43°09′22″ N., long. 115°57′57″ W.; to lat. 43°12′54″ N., long. 115°42′51″ W., thence to point of beginning, that airspace extending upward from 1,200 feet above the surface bounded by a line beginning at lat. 43°33′06″ N., long. 116°11′32″ W.; to lat. 42°48′43″ N., long. 115°00′21″ W.; to lat. 42°23′58″ N., long. 115°00′21″ W.; to lat. 42°23′58″ N., long. 115°18′28″ W.; thence clockwise along the 46.0-mile radius of Mountain Home AFB to lat. 43°09′17″ N., long. 116°54′28″ W.; thence to point of beginning.

Issued in Seattle, Washington, on October 1, 2015.
Christopher Ramirez,
Manager, Operations Support Group, Western Service Center.

[FR Doc. 2015-25991 Filed 10-15-15; 8:45 am]

BILLING CODE 4910-13-P